FARM CREDIT SYSTEM INSURANCE CORPORATION

Board of Directors Meeting

SUMMARY: Notice of the forthcoming regular meeting of the Board of Directors of the Farm Credit System Insurance Corporation (FCSIC), is hereby given in accordance with the provisions of the Bylaws of the FCSIC.

DATES: 10 a.m., Wednesday, December 10, 2025.

ADDRESSES: You may observe the open portions of this meeting in person at 1501 Farm Credit Drive, McLean, Virginia 22102-5090, or virtually. If you would like to virtually attend, at least 24 hours in advance, visit FCSIC.gov, select “News & Events,” then select “Board Meetings.” From there, access the linked “Instructions for board meeting visitors” and complete the described registration process.

FOR FURTHER INFORMATION CONTACT: If you need more information or assistance for accessibility reasons, or have questions, contact Ashley Waldron, Secretary to the Board. Telephone: 703-883-4009. TTY: 703-883-4056.

SUPPLEMENTARY INFORMATION: Parts of this meeting will be open to the public. The rest of the meeting will be closed to the public. The following matters will be considered:

Portions Open to the Public

• Approval of October 8, 2025, Minutes

• Quarterly FCSIC Financial Reports

• Quarterly Report on Insured Obligations

• Quarterly Report on Annual Performance Plan

Portions Closed to the Public

• Quarterly Report on Insurance Risk

• Audit Plan for the Year Ended December 31, 2025

• Executive Session of the Audit Committee with Auditor

Ashley Waldron,
Secretary to the Board.

[FR Doc. 2025-21815 Filed 12-2-25; 8:45 am]

BILLING CODE 6705-01-P